DEPARTMENT OF COMMERCE

National Oceanic and Atmospheric Administration

50 CFR Part 660

[Docket No. 180625576-8999-02]

RIN 0648-BI94

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial and recreational groundfish fisheries. This action is intended to allow commercial and recreational fishing vessels to access more abundant groundfish stocks while protecting overfished and depleted stocks.

DATES: This final rule is effective June 4, 2019.

FOR FURTHER INFORMATION CONTACT: Karen Palmigiano, phone: 206-526-4491 or email: karen.palmigiano@noaa.gov.

SUPPLEMENTARY INFORMATION:

Electronic Access

This rule is accessible via the internet at the Office of the Federal Register website at https://www.federalregister.gov. Background information and documents are available at the Pacific Fishery Management Council's website at http://www.pcouncil.org/.

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970). In general, the management measures set at the start of the biennial specifications cycle help the various sectors of the fishery attain, but not exceed, the catch limits for each stock. The Council, in coordination with Pacific Coast Treaty Indian Tribes and the States of Washington, Oregon, and California, recommends adjustments to the management measures during the fishing year to achieve this goal.

At its March 6-12, and April 10-16, 2019, meetings, the Council recommended seven adjustments to the 2019-2020 PCGFMP management measures, including: (1) Increasing the limited entry fixed gear (LEFG) and open access (OA) trip limits for the Minor Nearshore Rockfish complex from 42° North Latitude (N lat.) to 40°10′ N lat.; (2) increasing the LEFG and OA trip limits for the deeper nearshore rockfish complex south of 40°10′ N lat.; (3) increasing the LEFG and OA trip limits for blackgill rockfish south of 40°10′ N lat.; (4) increasing the LEFG and OA trip limits and recreational bag limit for lingcod south of 40°10′ N lat.; (5) increasing the California recreational canary rockfish bag limit; (6) increasing the California recreational black rockfish bag limit, and (7) transferring lingcod south of 40°10′ N lat. from the research and incidental open access (IOA) set-asides to the set asides for exempted fishing permits (EFPs).

Pacific Coast groundfish fisheries are managed using harvest specifications developed biennially and based on the best scientific information available at that time. Through the harvest specifications, the Council specifies annual catch limits (ACLs). Every species will either have its own designated ACL or be included in a multi-species ACL. Deductions from the ACL are then made to account for research, Pacific Coast treaty Indian tribal fisheries, scientific research, incidental open access (IOA) fisheries, and exempted fishing permits, resulting in the fishery harvest guideline. The fishery harvest guideline for most species is then allocated between the trawl and non-trawl fisheries based on percentages adopted under Amendment 21 to the PCGFMP (i.e., lingcod), or decided through the biennial specifications process (i.e., canary rockfish). Some species' harvest guidelines are not allocated between the trawl and non-trawl fisheries because historically there has been low attainment (i.e., Minor Nearshore Rockfish) or the species is allocated to a specific state (i.e., California black rockfish) and catch is controlled through state management measures. Each of the adjustments to management measures discussed below are based on updated fisheries information through the 2018 fishing year that was unavailable when the original analysis was completed.

Minor Nearshore Rockfish Complex North of 40°10′ N Lat.

The Minor Nearshore Rockfish complex north of 40°10′ N lat. includes 13 species of rockfish. The ACLs for the Minor Nearshore Rockfish complex north of 40°10′ N lat. are 81 mt in 2019 and 82 mt in 2020 with a 79 mt fishery harvest guideline in both years. Unlike other species, the coastwide harvest guideline is not allocated between trawl and non-trawl sectors because the trawl impacts are so minor. Instead, Washington, Oregon, and California have a sharing agreement and divide the federal harvest guideline for each of the species in the complex into state landing targets. The States then divide their shares between their commercial fixed gear and recreational sectors. Using the harvest guidelines along with catch information, the Council designates management measures to maximize catch within these state target limits while also limiting impacts to co-occurring rebuilding species such as yelloweye rockfish.

Most vessels fishing in California's nearshore fishery do not hold a federal limited entry permit and are considered federal OA fixed gear vessels. California restricts participation in the nearshore fishery by requiring a state limited entry permit to harvest nearshore groundfish species. Trip limits for these fisheries are designed to keep catch within nearshore species state and federal limits while providing a year-round fishing opportunity, if possible. The total California share of the coastwide harvest guideline the Minor Nearshore Rockfish complex is 36.6 mt for 2019 and 37.9 mt for 2020.

When the Council developed the 2019 and 2020 management measures for California's Minor Nearshore Rockfish complex in 2018, commercial catch data was only available through the end of the 2016 fishing year. State landing targets were based on the projected mortality from 2017 trip limits rather than average landings to account for potential additional effort within the fishery due to newly adopted permit transfer provisions. LEFG and OA fixed gear trip limits for the Minor Nearshore Rockfish complex were set for 2019 and 2020 at the same levels used in the 2017-2018 harvest specifications in order to remain precautionary due to uncertainty about potential increasing effort. The current trip limit for the both the LEFG and OA fisheries for period 1 (January-February) is 8,500 pounds (lb) (3,856 kilograms [kg]) per two months, no more than 1,200 lb (544 kg) of which may be species other than black rockfish. The current trip limit for period 2 (March-April) through period 6 (November-December) is 7,000 lb (3,175 kg) per two months, no more than 1,200 lb (544 kg) of which may be species other than black rockfish. Black rockfish is specified separately from the other nearshore species, because it has its own state-specific ACLs. In March 2019, the Groundfish Management Team (GMT) updated projections for the Minor Nearshore Rockfish complex with commercial fishing data through the end of 2018. Estimated mortality in 2018 for California's Minor Nearshore Rockfish complex, not including black rockfish, between 42° and 40°10′ N lat. was 6.6 mt for the commercial fishery and 16.1 mt for recreational fisheries. Total estimated mortality was 22.7 mt, or 56 percent of the 2018 harvest guideline (40.2 mt).

Based on this updated information the Council recommended adjusting the commercial sector trip limits for period 2 through period 6 from 7,000 lb (3,175 kg) per two months, no more than 1,200 lb (544 kg) of which may be species other than black rockfish to 7,000 lb (3,175 kg) per two months, no more than 1,500 lb (680 kg) of which may be species other than black rockfish. Under the current trip limits, the current catch for period 1 (January through February) in 2019 for the Minor Nearshore Rockfish complex between 42° N lat. and 40°10′ N lat. is 0.5 mt. Without an increase to the Minor Nearshore Rockfish complex trip limit for the remainder of 2019, projected attainment of the California share of the harvest guideline is 68.4 percent (25 mt total, including 12.4 mt from the recreational sector and 12.5 mt from the commercial sector, of the 36.6 mt) and projected attainment of the coastwide harvest guideline is 31.9 percent (79 mt). Projections based on increasing the trip limits suggest attainment may increase catch for Minor Nearshore Rockfish north of 40°10′ N lat. by 2.71 mt, from 12.6 mt to 14.7 mt, for the commercial sector. Total mortality of the complex for the commercial and recreational sectors may increase to 27.71 mt or 74 percent of the California share of the harvest guideline (36.6 mt).

Therefore, in March 2019 the Council recommended and NMFS is implementing increases to LEFG and OA fixed gear trip limits by modifying Table 2 (North) to part 660, subpart E, and Table 3 (North) to part 660, subpart F. The trip limits for period 2 through period 6 for minor nearshore rockfish for LEFG and OA fixed gear will increase from 7,000 lb (3,175 kg) per two months, no more than 1,200 lb (544 kg) of which may be species other than black rockfish to 7,000 lb (3,175 kg) per two months, no more than 1,500 lb (680 kg) of which may be species other than black rockfish beginning June 4, 2019.

Deeper Nearshore Rockfish South of 40°10′ N Lat.

The Minor Nearshore Rockfish complex south of 40°10′ N lat. is subdivided into two management categories: (1) Shallow nearshore rockfish (black-and-yellow rockfish, China rockfish, gopher rockfish, grass rockfish, and kelp rockfish), and (2) deeper nearshore rockfish (comprised of brown rockfish, calico rockfish, copper rockfish, olive rockfish, quillback rockfish, and treefish). California restricts participation in the nearshore fishery by requiring vessels have a shallow or a deeper nearshore permit which correspond to the type of permit needed in California to fish those species. At the March 2018 meeting, members of industry requested the Council consider increasing the LEFG and OA trip limits for vessels targeting species in the deeper nearshore rockfish complex only; no requests were received in regard to the shallow nearshore rockfish complex. The ACL for the Minor Nearshore Rockfish complex south of 40°10′ N lat. is 1,300 mt in 2019 with a 1,138 mt harvest guideline and 1,322 mt for 2020 with a 1,159 mt harvest guideline. The harvest guideline is shared between vessels targeting shallow and deeper nearshore rockfish.

When the Council developed the 2019-2020 management measures for California's deeper nearshore rockfish in 2018, commercial catch data through the end of the 2017 fishing year was not available. Instead, the analysis used data from previous fishing years and assumptions were made about fishing effort in the 2017 fishing year based on this data to project impacts through the remainder of 2017. Based on this information, trip limits for deeper nearshore rockfish for LEFG and OA fixed gear were set in 2019 and 2020 at the same levels used in the 2017-2018 harvest specifications. The current trip limit for Period 1 (January-February) is 1,000 lb (454 kg) per two months. Period 2 (March-April) is closed. The current trip limit for Period 3 through Period 6 is 1,000 lb (454 kg) per two months.

In March 2019, the GMT updated the projections for the nearshore rockfish species south of 40°10′ N lat. with commercial fishing data through the end of 2018. Estimated mortality for 2018 for these species was 682.5 mt, or 58 percent, of a 1,179 mt harvest guideline. Under the current trip limits, projected landings for the commercial sector in 2019 for nearshore rockfish south of 40°10′ N lat. is 584.5 mt of 1,138 mt harvest guideline, or 51.37 percent. Of that vessels are estimated to take 46 mt of deeper nearshore rockfish species, which is 10 mt less than the 2019-20 biennial harvest specifications analysis projected for 2019. Increasing the commercial trip limits for deeper nearshore rockfish is expected to increase commercial landings by 2 mt to 48 mt resulting in 0.17 percent increase in overall attainment of the harvest guideline from 51.37 percent (584.5 mt) to 51.54 percent (586.5 mt) of the harvest guideline.

For these reasons, the Council recommended and NMFS is implementing an increase to the LEFG and OA fixed gear trip limits for deeper nearshore rockfish south of 40°10′ N lat. NMFS is modifying Table 2 (South) part 660, subpart E, and Table 3 (South) part 660, subpart F, trip limits for deeper nearshore minor rockfish. The trip limits will increase from 1,000 lb (454 kg) per two months to 1,200 lb (544 kg) per two months beginning June 4, 2019 with Period 3 (May-June) and extending through Period 6. Period 2 will remain closed.

Impacts to Yelloweye Rockfish From Inseason Changes to Nearshore Fisheries

The primary objective of nearshore fisheries north and south of 40°10′ N lat. has been to maximize opportunity for target stocks while staying within the overfishing/rebuilding species limits, in particular yelloweye rockfish. Therefore, any time the Council considers an increase to trip limits for vessels targeting nearshore rockfish, impacts to yelloweye rockfish must also be considered. The 2019 yellow rockfish ACL is 48 mt and the harvest guideline is 42 mt. The nearshore harvest guideline is 6.2 mt with a nearshore annual catch target of 4.9 mt. The 2019-2020 biennial harvest specifications analysis projected total mortality of yelloweye rockfish in California's nearshore fishery at 0.6 mt of their 1.6 mt share, of which 0.4 mt would be taken north of 40°10′ N lat. and 0.2 mt would be taken south. Using updated commercial fishery information through 2018, under the current trip limits projected impacts to yelloweye rockfish in 2019 resulting from vessels targeting nearshore rockfish north and south of 40°10′ N lat. are 0.59 mt. Increasing the trip limits for California's nearshore rockfish fishery north of 40°10′ N lat. would likely increase impacts to yelloweye rockfish by 0.1 mt resulting in 0.6 mt in cumulative impacts from vessels targeting nearshore rockfish north and south of 40°10′ N lat. These impacts are 0.7 mt less than California's share of the yelloweye rockfish harvest guideline for nearshore fisheries.

Blackgill Rockfish South of 40°10′ N Lat.

Blackgill rockfish is a component stock that is managed within the Slope Rockfish complexes north and south of 40°10′ N lat. The 2017 blackgill rockfish update assessment indicated the stock was at 39.4 percent depletion at the start of 2017 and is estimated to be at 40 percent in 2019. The 2019 blackgill rockfish south of 40°10′ N lat. harvest guideline is 158.9 mt, based on the blackgill rockfish contribution to the Slope Rockfish complex.

At its April 2019 Council meeting, under Agenda Item G.4., the Council rescinded their original final action for removing blackgill rockfish from the Slope Rockfish complex as was selected at the November 2015 Council meeting (Agenda Item D.7.a, Supplemental GMT Report 2, June 2015). Instead, the Council selected the No Action Alternative, resulting in blackgill rockfish south of 40°10′ N lat. remaining in the southern Slope Rockfish complex and maintaining the Amendment 21 formal sector allocation of 63 percent of the annual harvestable surplus (as defined by the fishery harvest guideline) of southern Slope Rockfish to trawl sectors and 37 percent of the annual harvestable surplus to non-trawl sectors. This results in allocating 100.1 mt to the trawl sector and 58.8 mt to the non-trawl sector in 2019, an increase of 13.3 mt over the 2018 non-trawl allocation (45.5 mt).

Once the Council selected the No Action Alternative, they recommended the GMT investigate the possibility of increasing the current trip limits for blackgill rockfish for LEFG and OA south of 40°10′ N lat. Increases to the current trip limits, which have been in place since 2015, had not been considered until now as constituents waited for implementation of Amendment 26 and removal of blackgill rockfish from the Slope Rockfish complex. Under the current slope and blackgill rockfish trip limits south of 40°10′ N lat., during periods 1-3 (January-June) LEFG vessels are allowed to harvest 40,000 lb (18,143 kg) per two months of slope rockfish, of which no more than 1,375 lb (624 kg) may be blackgill rockfish. During periods 3 through 6 (July through December), those limits increase to 40,000 lb (18,143 kg) per two months of slope rockfish, of which no more than 1,600 lb (726 kg) may be blackgill rockfish. Estimated mortality for the LEFG fishery under these limits is 20 mt. Vessels fishing in the OA fishery south of 40°10′ N lat. during periods 1-3 (January through June) are allowed to harvest 10,000 lb (4,536 kg) per two months, of which no more than 475 lb (215 kg) may be blackgill rockfish; for periods 4-6 (July through December) those limits increase to 10,000 lb (4,536 kg) per two months, of which no more than 550 lb (249 kg) may be blackgill rockfish. Estimated mortality for the OA fishery under these limits is 1.9 mt. Combined impacts to blackgill rockfish from the LEFG and OA sector are likely to be 21.9 mt or 37 percent of the 58.8 mt non-trawl allocation.

The GMT further investigated trip limit alternatives and found the limits for blackgill rockfish could be increased to 4,000 lb (1,814 kg) per two months for the LEFG vessels and up to 900 lb (408 kg) for the OA vessels. The estimated blackgill rockfish mortality for the LEFG fishery would be 41.7 mt and for the OA fishery it would be 2.6 mt. The cumulative impacts to blackgill rockfish would be 44.3 mt, 14.5 mt less than the non-trawl allocation of blackgill rockfish south of 40°10′ N lat. (58.8 mt).

Therefore, the Council recommended and NMFS is implementing increases to the blackgill rockfish trip limits for the LEFG and OA fisheries south of 40°10′ N lat. as follows. On June 4, 2019, the LEFG trip limits for periods 3-6 (May through December) would increase to 40,000 lb (18,143 kg) per two months of slope rockfish, of which no more than 4,000 lb (1,814 kg) may be blackgill rockfish, and the OA trip limits for period 3-6 (May through December) would increase to 10,000 lb (4,536 kg) per two months, of which no more than 800 lb (363 kg) may be blackgill rockfish.

Lingcod South of 40°10′ N Lat.

During development of the 2019-2020 harvest specifications, the Council recommended deviating from the default harvest control rules for lingcod north and south of 40°10′ N lat., reflecting greater confidence in the current stock assessment. The 2019 ACL for the northern stock is 4,871 mt with a fishery harvest guideline of 4,593 mt. The ACL for the southern stock is 1,039 mt with a fishery harvest guideline of 1,028 mt. The fishery harvest guideline is split between the trawl and non-trawl sectors according to the Amendment 21 allocations as specified at § 660.55(c) and Chapter 6 of the PCGFMP. Under this split, the trawl sector received 462.5 mt, or 45 percent, of the 2019 harvest guideline for lingcod south of 40°10′ N lat. and the non-trawl sector received 565.2 mt, or 55 percent, of the 2019 harvest guideline. The non-trawl percentage is shared between the limited entry fixed gear, open access, and recreational fisheries.

Between 2013 and 2018, the trawl sector had harvested less than 10 percent annually of their lingcod south allocation, while the non-trawl sector has harvested between 70 and 125 percent of their allocation annually during the same 5-year period. The non-trawl sector exceeded their allocation in 2015 and 2016 by at least 24 percent or 120 mt each year resulting in a less optimistic outlook for lingcod south of 40°10′ N lat. in 2017. The analysis completed in January 2018 for the 2019-2020 harvest specifications used fishery data through the 2016 fishing year which suggested a more precautionary approach for the recreational bag limit and OA trip limits was necessary to prevent the non-trawl allocation from being exceeded again.

At the April 2019 Council meeting, CDFW presented updated catch projections for 2019 and 2020 based on updated commercial and recreational catch information through 2018. Under the current trip limits for LEFG south of 40°10′ N lat. (Period 1: 200 lb [91 kg] per 2 months, Period 2: closed, Period 3: 800 lb [363 kg] per two months, Periods 4 and 5: 1,200 lb [544 kg], Period 6-November: 600 lb [272 kg], and Period 6-December: 300 lb [136 kg]) and OA fisheries (Period 1: 300 lb [136 kg] per two months, Period 2: closed, and Periods 3 through 6: 300 lb [136 kg]) commercial impacts are projected to be 40 mt. Under the one lingcod bag limit for recreational fisheries projected impacts for the recreational sector are 315 mt in 2019. Combined lingcod impacts for both LEFG and OA sectors is 365.4 mt or 65 percent of the 2019 non-trawl harvest guideline (565 mt) for lingcod south of 40°10′ N lat. Therefore, the Council recommended the GMT consider the impacts of increasing both the commercial trip limits and recreational bag limit for lingcod south of 40°10′ N lat.

Based on the GMT's analysis, increasing the trip limits for LEFG vessels targeting lingcod south of 40°10′ N lat. to 1,200 lb (544 kg) per two months for all remaining periods (assuming a June 1, 2019 implementation date) would increase the impacts to lingcod from 6.1 mt to 8.2 mt. Increasing the trip limits for OA vessels targeting lingcod south of 40°10′ N lat. to 500 lb (227 kg) for all remaining periods (assuming a June 1, 2019 implementation date) would increase the impacts to lingcod from 33.9 mt to 49.3 mt. Cumulative impacts for both sectors would increase from 40 mt to 58 mt. Increasing the recreational bag limit from one lingcod to two lingcod in 2019 would increase the impacts to lingcod from 223 mt to 411 mt. Total non-trawl impacts for both sectors would increase from 264 mt to 456 mt or from 47 percent of the non-trawl harvest guideline (565.2 mt) to 81 percent.

Therefore, the Council recommended and NMFS is implementing increases to commercial trip limits for LEFG and OA vessels beginning, June 4, 2019. LEFG trip limits will increase to 1,200 lb (544 kg) for all remaining periods and OA fishery trip limits will increase to 500 lb (227 kg) for all remaining periods. The recreational bag limit for vessels targeting lingcod south of 40°10′ N lat. in the recreational fishery will increase from one lingcod to two lingcod. The increase to the recreational bag limit for lingcod south of 40°10′ N lat. is effective upon publication of this notice.

Recreational Bag Limit Changes

At the March 2019 Council meeting, the GMT received a request from recreational fishing representatives to analyze an increase to the bag and sub-bag limits south of 40°10′ N lat. for lingcod, canary rockfish, and black rockfish. During development of the 2019-2020 harvest specifications, recreational catch information from 2018 was not yet available and limits were established based on recreational data from 2016 and preliminary data from the 2017 fishing year. The California Department of Fish and Wildlife (CDFW) provided updated recreational catch data through 2018 at the March 2019 Council meeting. Based on the following updated information and analysis, the Council recommended NMFS increase the lingcod, canary rockfish and black rockfish bag limits for the recreational sector. The Council's recommended recreational bag limit changes for Lingcod south of 40°10′ N lat. from the April 2019 meeting are discussed above.

Canary Rockfish

New data from 2018 show canary rockfish mortality was below the 2017 and 2018 California recreational harvest guidelines of 135 mt for each year. Estimated attainment was 61 percent (82.1 mt) of the recreational harvest guideline in 2017, and 43 percent (58.4 mt) in 2018. Using the full year of 2018 recreational data to project attainment in 2019 under the current two fish bag limit, vessels are expected to attain 81 percent (103 mt) of the 127.3 mt harvest guideline in 2019. Attainment is expected to increase to 86 percent in 2020 under a smaller harvest guideline (119.7 mt). Under a three fish bag limit for canary rockfish, expected attainment would be 117.4 mt, which is 92 percent of 2019 California recreational harvest guideline (127.3 mt) and 98 percent of the 2020 harvest guideline (119.7 mt). The GMT also considered projected attainment under a four fish bag limit, but did not recommend the Council take this option as it would likely result in exceeding the recreational harvest guideline in 2020.

Therefore, the Council recommend and NMFS is implementing an increase to the recreational bag limit for canary rockfish from two fish to three fish. Increasing the bag limit for canary rockfish will allow vessel operators to access healthy canary rockfish stock that had previously been off-limit to recreational fishing due to their overfished status. CDFW monitors canary rockfish catch weekly through its California Recreational Fisheries Survey. For these reasons, the Council recommended and NMFS is implementing an increase to the recreational sub-bag limit for canary rockfish from two to three fish at § 660.360 for the California recreational fishery.

Black Rockfish

In 2015, state-specific stock assessments were conducted for black rockfish which allowed the Council to consider state harvest limits beginning with the next biennium. In 2017, as part of the biennial harvest specifications, the Council recommended and NMFS established a California-specific ACL and harvest guideline for black rockfish (see Table 1a to part 660, subpart C) which is split north and south of 40°10′ N lat. Unlike other species, the harvest guideline is not allocated between the trawl and non-trawl sectors, but it is shared between the recreational and commercial fixed gear fisheries. Black rockfish is managed in the recreational sector through the use of a sub-bag limit which is part of the overall rockfish, cabezon, and greenling bag limit. In the commercial sector, black rockfish is part of the deeper nearshore fishery, and bimonthly trip limits are set separately north and south of 40°10′ N lat. (See the section above on the deeper nearshore fishery for more information on those commercial trip limits.)

Updated catch information for black rockfish from 2017 shows the combined commercial and recreational catch was 155 mt of a 333 mt harvest guideline or 46 percent. Combined commercial and recreational catch for black rockfish in 2018 was 140 mt of a 331 mt harvest guideline or 42 percent. The current recreational bag limit is three fish. Under the current three-fish sub-bag limit for black rockfish projected total commercial and recreational catch is 204.3 mt each year in 2019 and 2020, assuming the commercial sector catches their full 100 mt share (95 mt between 42° and 40°10′ N lat.; 5 mt south of 40°10′ N lat.). The projected attainment of black rockfish is 62 percent of the 328 mt harvest guideline in 2019 and 63 percent of the 325 mt harvest guideline in 2020.

In March 2019, the GMT projected total catch under four and five fish bag limits for black rockfish. Assuming the commercial sector takes their full share (100 mt), under a four fish bag limit, total catch of black rockfish increases to 265.1 mt or 81 percent of the 328 mt harvest guideline in 2019 and 82 percent of the 325 mt harvest guideline in 2020. Under a five fish bag limit, assuming the same commercial catch, total harvest increases to 327.4 mt or 100 percent of the harvest guideline in 2019 and 101 percent of the harvest guideline in 2020.

Increasing the bag limit for black rockfish will allow vessel operators to access healthy black rockfish stocks. CDFW monitors black rockfish catch weekly through its California Recreational Fisheries Survey. In the unlikely event that a state-specific harvest guideline is attained or projected to be attained prior to a Council meeting, NMFS has the regulatory authority at § 660.60(c)(4) to restrict catch of black rockfish. Therefore, the Council recommended and NMFS is implementing an increase to the black rockfish sub-bag limit from three to four fish at § 660.360 for the California recreational fishery. The Council did not select the higher five-fish sub-bag limit due to the potential for high catch around the San Francisco Management Area. Instead the Council chose a more precautionary approach at this time and can adjust the bag limits in the future if new information warrants an adjustment.

Lingcod Off-the-Top Deductions

NMFS sets ACLs for non-whiting groundfish stocks and stock complexes as part of biennial harvest specifications and management measures. Deductions are made “off-the-top” from the ACL to “set-aside” an amount for various sources of mortality, including non-groundfish fisheries that catch groundfish incidentally, also called incidental open access (IOA) fisheries, as well as for research, tribal harvest, and recreational catch.

During development of the 2019-2020 harvest specifications the GMT made recommendations to the Council for off-the-top deductions from the ACLs, including deductions for EFPs for the 2019-2020 fishing years. On March 18, 2019, participants in the San Francisco Community Fishing Association EFP, also known as the Emley/Platt EFP, notified NMFS of an error in the allocation amount for lingcod south of 40°10′ N lat. At the Council's June 2018 meeting, the participants had requested a 1.5 mt set-aside each of lingcod north and south of 40°10′ N lat. for 2019 but had only received an amount for lingcod north. NMFS reviewed the GMT recommendations as well as the application and Council discussion on this topic and found the set-aside for lingcod south of 40°10′ N lat. for the Emley/Platt EFP was mistakenly left off the GMT recommendations to the Council. Therefore, in order to provide some relief to the participants in the Emley/Platt EFP, the GMT recommended the Council redistribute 1 mt of lingcod south of 40°10′ N lat. research catch and 0.5 mt of incidental open access catch. This redistribution results in an incidental open access amount of 7.6 mt, a research catch amount of 2.2 mt, and an EFP catch amount of 1.5 mt. Total mortality in both the IOA and research sectors has been less than their set-aside amounts between 2014 and 2017. The average research catch for lingcod south of 40°10′ N lat. during that time was 2.0 mt of out of a 3.2 mt set-aside. The average IOA catch for lingcod south of 40°10′ N lat. between 2014 and 2017 was 6.9 mt out of an 8.1 mt set-aside.

Therefore, NMFS is implementing the Council's recommendation to redistribute a total of 1.5 mt of lingcod south of 40°10′ N lat. from the set-asides for IOA and research catch to the set-aside for EFPs to be used by the participants in the Emley/Platt EFP.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document affect commercial and recreational fisheries in California. No aspect of this action is controversial, and changes of this nature were anticipated in the final rule for the 2019-2020 harvest specifications and management measures which published on December 12, 2018 (83 FR 63970).

At its March and April 2019 meetings, the Council recommended increases to the commercial trip limits and recreational bag limits be implemented as soon as possible. Each of the adjustments to commercial and recreational management measures in this rule will create more harvest opportunity and allow fishermen to better attain species that are currently under attained without causing any additional impacts to the fishery, including to rebuilding stocks. Each of these recommended adjustments also rely on new catch data that were not available and thus not considered during the 2019-2020 biennial harvest specifications process. New catch information through the end of the 2018 fishing year shows that attainment of these target species (canary, black, blackgill rockfish, and lingcod south of 40°10′ N lat., and Nearshore Rockfish complexes north and south of 40°10′ N lat.) has been below 60 percent of their respective management points (i.e., harvest guideline, annual catch limit, or non-trawl allocation) in 2018 and would likely remain below their state catch targets under status quo limits in 2019 and 2020. While it is difficult to assess the specific overall economic impact, this action would provide immediate economic benefits to the fishing industry. As an example, the 2018 commercial minor nearshore rockfish landings accounted for 5.1 percent of ex-vessel revenue from the groundfish fishery in California, and the ex-vessel revenue for the California nearshore fixed gear fleet targeting minor nearshore rockfish in 2018 was $560,937. The increase in trip limits for the nearshore fleet could provide an increase in ex-vessel revenue of $69,753, or 11 percent, based on average price per pound of all minor nearshore rockfish species combined. Increased trip limits for lingcod and blackgill rockfish would provide immediate economic benefits for the LEFG and OA sectors. The blackgill rockfish trip limits have been in place since 2015, even though the species has been under-attained compared to its contribution to the non-trawl allocation of the southern Slope Rockfish complex. California accounts for 84 percent of the coastwide groundfish recreational trips, with 742,235 average annual recreational marine boat trips from 2012-2016. Providing increased retention for recreational bag limits came at the direct request of an industry representative who expressed interest in pursuing these target species which in turn, is expected to provide a positive economic benefit to charter operations, private skiff anglers and associated fish businesses. Delaying implementation to allow for public comment would likely reduce the economic benefits to the commercial and recreational sectors because much of the fishing season would be over before the new regulations could be implemented. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial and recreational fisheries by increasing opportunity and relieving participants of the more restrictive trip and bag limits. These adjustments were requested by the Council, as well as members of industry during the Council's March and April 2019 meetings, and recommended unanimously by the Council. No aspect of this action is controversial, and changes of this nature were anticipated in the biennial harvest specifications and management measures established through a notice and comment rulemaking for 2019-2020 (82 FR 63970).

List of Subjects in 50 CFR Part 660

Fisheries, Fishing, and Indian fisheries.

Dated: May 30, 2019.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Revise Table 1a to part 660, subpart C, to read as follows:

Table 1a to Part 660, Subpart C—2019, Specifications of OFL, ABC, ACL, ACT and Fishery HG
[Weights in metric tons]
Stocks/stock complexes | Area | OFL | ABC | ACL a | Fishery HG b
COWCOD ᶜ | S of 40°10′ N lat | 74 | 67 | 10 | 8
COWCOD | (Conception) | 61 | 56 | NA | NA
COWCOD | (Monterey) | 13 | 11 | NA | NA
YELLOWEYE ROCKFISH ᵈ | Coastwide | 82 | 74 | 48 | 42
Arrowtooth Flounder ᵉ | Coastwide | 18,696 | 15,574 | 15,574 | 13,479
Big Skate ᶠ | Coastwide | 541 | 494 | 494 | 452
Black Rockfish ᵍ | California (S of 42° N lat.) | 344 | 329 | 329 | 328
Black Rockfish ʰ | Washington (N of 46°16′ N lat.) | 312 | 298 | 298 | 280
Bocaccio ⁱ | S of 40°10′ N lat | 2,194 | 2,097 | 2,097 | 2,051
Cabezonz ʲ | California (S of 42° N lat) | 154 | 147 | 147 | 147
California Scorpionfish ᵏ | S of 34°27′ N lat | 337 | 313 | 313 | 311
Canary Rockfish ˡ | Coastwide | 1,517 | 1,450 | 1,450 | 1,383
Chilipepper Rockfish m | S. of 40°10′ N lat | 2,652 | 2,536 | 2,536 | 2,451
Darkblotched Rockfish ⁿ | Coastwide | 800 | 765 | 765 | 731
Dover Sole ᵒ | Coastwide | 91,102 | 87,094 | 50,000 | 48,404
English Sole ᵖ | Coastwide | 11,052 | 10,090 | 10,090 | 9,874
Lingcod q | N of 40°10′ N lat | 5,110 | 4,885 | 4,871 | 4,593
Lingcod ʳ | S of 40°10′ N lat | 1,143 | 1,093 | 1,039 | 1,028
Longnose Skate ˢ | Coastwide | 2,499 | 2,389 | 2,000 | 1,852
Longspine Thornyhead ᵗ | N of 34°27′ N lat | 4,112 | 3,425 | 2,603 | 2,553
Longspine Thornyhead ᵘ | S.of 34°27′ N lat |  |  | 822 | 821
Pacific Cod ᵛ | Coastwide | 3,200 | 2,221 | 1,600 | 1,094
Pacific Whiting ʷ | Coastwide | (ʷ) | (ʷ) | (ʷ) | (ʷ)
Pacific Ocean Perch ˣ | N of 40°10′ N lat | 4,753 | 4,340 | 4,340 | 4,318
Petrale Sole ʸ | Coastwide | 3,042 | 2,908 | 2,908 | 2,587
Sablefish ᶻ | N of 36° N lat | 8,489 | 7,750 | 5,606 | *
Sablefish ᵃᵃ | S of 36° N lat |  |  | 1,990 | 1,986
Shortbelly Rockfish ᵇᵇ | Coastwide | 6,950 | 5,789 | 500 | 483
Shortspine Thornyhead ᶜᶜ | N of 34°27′ N lat | 3,089 | 2,573 | 1,683 | 1,618
Shortspine Thornyhead ᵈᵈ | S of 34°27′ N lat |  |  | 890 | 889
Spiny Dogfish ᵉᵉ | Coastwide | 2,486 | 2,071 | 2,071 | 1,738
Splitnose Rockfish ᶠᶠ | S of 40°10′ N lat | 1,831 | 1,750 | 1,750 | 1,733
Starry Flounder ᵍᵍ | Coastwide | 652 | 452 | 452 | 433
Widow Rockfish ʰʰ | Coastwide | 12,375 | 11,831 | 11,831 | 11,583
Yellowtail Rockfish ⁱⁱ | N. of 40°10′ N lat | 6,568 | 6,279. | 6,279 | 5,234
Black Rockfish/Blue Rockfish/Deacon Rockfish ʲʲ | Oregon (Between 46°16′ N lat. and 42° N lat.) | 677 | 617 | 617 | 616
Cabezon/Kelp Greenling ᵏᵏ | Oregon (Between 46°16′ N lat. and 42° N lat.) | 230 | 218 | 218 | 218
Cabezon/Kelp Greenling ˡˡ | Washington (N of 46°16′ N lat.) | 13 | 11 | 11 | 11
Nearshore Rockfish ᵐᵐ | N of 40°10′ N lat | 91 | 81 | 81 | 79
Shelf Rockfish ⁿⁿ | N of 40°10′ N lat | 2,309 | 2,054 | 2,054 | 1,977
Slope Rockfish ᵒᵒ | N of 40°10′ N lat | 1,887 | 1,746 | 1,746 | 1,665
Nearshore Rockfish ᵖᵖ | S of 40°10′ N lat | 1,300 | 1,145 | 1,142 | 1,138
Shelf Rockfish qq | S of 40°10′ N lat | 1,919 | 1,625 | 1,625 | 1,546
Slope Rockfish ʳʳ | S of 40°10′ N lat | 856 | 744 | 744 | 724
Other Flatfish ˢˢ | Coastwide | 8,750 | 6,498 | 6,498 | 6,249
Other Fish ᵗᵗ | Coastwide | 286 | 239 | 239 | 230
* See Table 1c.
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Cowcod south of 40°10′ N lat. 2 mt is deducted from the ACL to EFP fishing (less than 0.1 mt) and research activity (2 mt), resulting in a fishery HG of 8 mt. Any additional mortality in research activities will be deducted from the ACL. A single ACT of 6 mt is being set for the Conception and Monterey areas combined.
ᵈ Yelloweye rockfish. The 48 mt ACL is based on the current rebuilding plan with a target year to rebuild of 2029 and an SPR harvest rate of 65 percent. 6.1 mt is deducted from the ACL to accommodate the Tribal fishery (2.3 mt), the incidental open access fishery (0.62 mt), EFP catch (0.24 mt) and research catch (2.92 mt), resulting in a fishery HG of 42 mt. The non-trawl HG is 38.6 mt. The non-nearshore HG is 2.0 mt and the nearshore HG is 6.0 mt. Recreational HGs are: 10 mt (Washington); 8.9 mt (Oregon); and 11.6 mt (California). In addition, there are the following ACTs: Non-nearshore (1.6 mt), nearshore (4.7 mt), Washington recreational (7.8 mt), Oregon recreational (7.0 mt), and California recreational (9.1 mt).
ᵉ Arrowtooth flounder. 2,094.9 mt is deducted from the ACL to accommodate the Tribal fishery (2,041 mt), the incidental open access fishery (40.8 mt), EFP fishing (0.1 mt), and research catch (13 mt), resulting in a fishery HG of 13,479 mt.
ᶠ Big skate. 41.9 mt is deducted from the ACL to accommodate the Tribal fishery (15 mt), the incidental open access fishery (21.3 mt), EFP fishing (0.1 mt), and research catch (5.5 mt), resulting in a fishery HG of 452 mt.
ᵍ Black rockfish (California). 1.3 mt is deducted from the ACL to accommodate EFP fishing (1.0 mt) and incidental open access fishery (0.3 mt), resulting in a fishery HG of 328 mt.
ʰ Black rockfish (Washington). 18.1 mt is deducted from the ACL to accommodate the Tribal fishery (18 mt) and research catch (0.1 mt), resulting in a fishery HG of 280 mt.
ⁱ Bocaccio south of 40°10′ N lat. The stock is managed with stock-specific harvest specifications south of 40°10′ N lat. and within the Minor Shelf Rockfish complex north of 40°10′ N lat. 46.1 mt is deducted from the ACL to accommodate the incidental open access fishery (0.5 mt), EFP catch (40 mt) and research catch (5.6 mt), resulting in a fishery HG of 2,051 mt. The California recreational fishery south of 40°10′ N lat. has an HG of 863.4 mt.
ʲ Cabezon (California). 0.3 mt is deducted from the ACL to accommodate the incidental open access fishery, resulting in a fishery HG of 147 mt.
ᵏ California scorpionfish south of 34°27′ N lat. 2.4 mt is deducted from the ACL to accommodate the incidental open access fishery (2.2 mt) and research catch (0.2 mt), resulting in a fishery HG of 311 mt.
ˡ Canary rockfish. 67.1 mt is deducted from the ACL to accommodate the Tribal fishery (50 mt), the incidental open access fishery (1.3 mt), EFP catch (8 mt), and research catch (7.8 mt), resulting in a fishery HG of 1,383 mt. Recreational HGs are: 47.1 mt (Washington); 70.7 mt (Oregon); and 127.3 mt (California).
ᵐ Chilipepper rockfish south of 40°10′ N lat. Chilipepper are managed with stock-specific harvest specifications south of 40°10′ N lat. and within the Minor Shelf Rockfish complex north of 40°10′ N lat. 84.9 mt is deducted from the ACL to accommodate the incidental open access fishery (11.5 mt), EFP fishing (60 mt), and research catch (13.4 mt), resulting in a fishery HG of 2,451 mt.
ⁿ Darkblotched rockfish. 33.8 mt is deducted from the ACL to accommodate the Tribal fishery (0.2 mt), the incidental open access fishery (24.5 mt), EFP catch (0.6 mt), and research catch (8.5 mt) resulting in a fishery HG of 731 mt.
ᵒ Dover sole. 1,595.6 mt is deducted from the ACL to accommodate the Tribal fishery (1,497 mt), the incidental open access fishery (49.3 mt), EFP fishing (0.1 mt), and research catch (49.2 mt), resulting in a fishery HG of 48,404 mt.
ᵖ English sole. 216.2 mt is deducted from the ACL to accommodate the Tribal fishery (200 mt), the incidental open access fishery (8.1 mt), EFP fishing (0.1 mt), and research catch (8 mt), resulting in a fishery HG of 9,874 mt.
q Lingcod north of 40°10′ N lat. 278 mt is deducted from the ACL for the Tribal fishery (250 mt), the incidental open access fishery (9.8 mt), EFP catch (1.6 mt) and research catch (16.6 mt), resulting in a fishery HG of 4,593 mt.
ʳ Lingcod south of 40°10′ N lat. 11.3 mt is deducted from the ACL to accommodate the incidental open access fishery (8.1 mt) and research catch (3.2 mt), resulting in a fishery HG of 1,028 mt. On June 4, 2019 1 mt of research catch and 0.5 mt of incidental open access catch were redistributed to the deduction for EFP catch. This redistribution results in an incidental open access amount of 7.6 mt, a research catch amount of 2.2 mt, and an EFP catch amount of 1.5 mt.
ˢ Longnose skate. 148.3 mt is deducted from the ACL to accommodate the Tribal fishery (130 mt), incidental open access fishery (5.7 mt), EFP catch (0.1 mt), and research catch (12.5 mt), resulting in a fishery HG of 1,852 mt.
ᵗ Longspine thornyhead north of 34°27′ N lat. 50.4 mt is deducted from the ACL to accommodate the Tribal fishery (30 mt), the incidental open access fishery (6.2 mt), and research catch (14.2 mt), resulting in a fishery HG of 2,553 mt.
ᵘ Longspine thornyhead south of 34°27′ N lat. 1.4 mt is deducted from the ACL to accommodate research catch, resulting in a fishery HG of 821 mt.
ᵛ Pacific cod. 506.2 mt is deducted from the ACL to accommodate the Tribal fishery (500 mt), research catch (5.5 mt), EFP fishing (0.1 mt), and the incidental open access fishery (0.6 mt), resulting in a fishery HG of 1,094 mt.
ʷ Pacific whiting. Pacific whiting are assessed annually. The final specifications will be determined consistent with the U.S.-Canada Pacific Whiting Agreement and will be announced after the Council's April 2019 meeting.
ˣ Pacific ocean perch north of 40°10′ N lat. 22.4 mt is deducted from the ACL to accommodate the Tribal fishery (9.2 mt), the incidental open access fishery (10 mt), EFP fishing (0.1 mt), and research catch (3.1 mt) resulting in a fishery HG of 4,318 mt.
ʸ Petrale sole. 320.6 mt is deducted from the ACL to accommodate the Tribal fishery (290 mt), the incidental open access fishery (6.4 mt), EFP catch (0.1 mt), and research catch (24.1 mt), resulting in a fishery HG of 2,587 mt.
ᶻ Sablefish north of 36° N lat. The 40-10 adjustment is applied to the ABC to derive a coastwide ACL value because the stock is in the precautionary zone. This coastwide ACL value is not specified in regulations. The coastwide ACL value is apportioned north and south of 36° N lat., using the 2003-2014 average estimated swept area biomass from the NMFS NWFSC trawl survey, with 73.8 percent apportioned north of 36° N lat. and 26.2 percent apportioned south of 36° N lat. The northern ACL is 5,606 mt and is reduced by 561 mt for the Tribal allocation (10 percent of the ACL north of 36° N lat.). The 561 mt Tribal allocation is reduced by 1.5 percent to account for discard mortality. Detailed sablefish allocations are shown in Table 1c.
ᵃᵃ Sablefish south of 36° N lat. The ACL for the area south of 36° N lat. is 1,990 mt (26.2 percent of the calculated coastwide ACL value). 4.2 mt is deducted from the ACL to accommodate the incidental open access fishery (1.8 mt) and research catch (2.4 mt), resulting in a fishery HG of 1,986 mt.
ᵇᵇ Shortbelly rockfish. 17.2 mt is deducted from the ACL to accommodate the incidental open access fishery (8.9 mt), EFP catch (0.1 mt), and research catch (8.2 mt), resulting in a fishery HG of 483 mt.
ᶜᶜ Shortspine thornyhead north of 34°27′ N lat. 65.3 mt is deducted from the ACL to accommodate the Tribal fishery (50 mt), the incidental open access fishery (4.7 mt), EFP catch (0.1 mt), and research catch (10.5 mt), resulting in a fishery HG of 1,618 mt for the area north of 34°27′ N lat.
ᵈᵈ Shortspine thornyhead south of 34°27′ N lat. 1.2 mt is deducted from the ACL to accommodate the incidental open access fishery (0.5 mt) and research catch (0.7 mt), resulting in a fishery HG of 889 mt for the area south of 34°27′ N lat.
ᵉᵉ Spiny dogfish. 333 mt is deducted from the ACL to accommodate the Tribal fishery (275 mt), the incidental open access fishery (22.6 mt), EFP catch (1.1 mt), and research catch (34.3 mt), resulting in a fishery HG of 1,738 mt.
ᶠᶠ Splitnose rockfish south of 40°10′ N lat. Splitnose rockfish in the north is managed in the Slope Rockfish complex and with stock-specific harvest specifications south of 40°10′ N lat. 16.6 mt is deducted from the ACL to accommodate the incidental open access fishery (5.8 mt), research catch (9.3 mt) and EFP catch (1.5 mt), resulting in a fishery HG of 1,733 mt.
ᵍᵍ Starry flounder. 18.8 mt is deducted from the ACL to accommodate the Tribal fishery (2 mt), EFP catch (0.1 mt), research catch (0.6 mt), and the incidental open access fishery (16.1 mt), resulting in a fishery HG of 433 mt.
ʰʰ Widow rockfish. 248.4 mt is deducted from the ACL to accommodate the Tribal fishery (200 mt), the incidental open access fishery (3.1 mt), EFP catch (28 mt) and research catch (17.3 mt), resulting in a fishery HG of 11,583 mt.
ⁱⁱ Yellowtail rockfish north of 40°10′ N lat. 1,045.1 mt is deducted from the ACL to accommodate the Tribal fishery (1,000 mt), the incidental open access fishery (4.5 mt), EFP catch (20 mt) and research catch (20.6 mt), resulting in a fishery HG of 5,234 mt.
ʲʲ Black rockfish Blue rockfish Deacon rockfish (Oregon). 1.2 mt is deducted from the ACL to accommodate the incidental open access fishery (0.3 mt) and EFP catch (0.9 mt), resulting in a fishery HG of 616 mt.
ᵏᵏ Cabezon kelp greenling (Oregon). 0.2 mt is deducted from the ACL to accommodate EFP catch, resulting in a fishery HG of 218 mt.
ˡˡ Cabezon kelp greenling (Washington). There are no deductions from the ACL so the fishery HG is equal to the ACL of 11 mt.
ᵐᵐ Nearshore Rockfish north of 40°10′ N lat. 2.8 mt is deducted from the ACL to accommodate the Tribal fishery (1.5 mt), EFP fishing (0.1 mt), research catch (0.3 mt) and the incidental open access fishery (0.9 mt), resulting in a fishery HG of 79 mt.
ⁿⁿ Shelf Rockfish north of 40°10′ N lat. 76.9 mt is deducted from the ACL to accommodate the Tribal fishery (30 mt), the incidental open access fishery (17.7 mt), EFP catch (4.5 mt), and research catch (24.7 mt), resulting in a fishery HG of 1,977 mt.
ᵒᵒ Slope Rockfish north of 40°10′ N lat. 80.8 mt is deducted from the ACL to accommodate the Tribal fishery (36 mt), the incidental open access fishery (21.7 mt), EFP catch (1.5 mt), and research catch (21.6 mt), resulting in a fishery HG of 1,665 mt.
ᵖᵖ Nearshore Rockfish south of 40°10′ N lat. 4.1 mt is deducted from the ACL to accommodate the incidental open access fishery (1.4 mt) and research catch (2.7 mt), resulting in a fishery HG of 1,138 mt.
qq Shelf Rockfish south of 40°10′ N lat. 79.1 mt is deducted from the ACL to accommodate the incidental open access fishery (4.6 mt), EFP catch (60 mt), and research catch (14.5 mt), resulting in a fishery HG of 1,546 mt.
ʳʳ Slope Rockfish south of 40°10′ N lat. 20.2 mt is deducted from the ACL to accommodate the incidental open access fishery (16.9 mt), EFP catch (1 mt), and research catch (2.3 mt), resulting in a fishery HG of 724 mt. Blackgill rockfish has a stock-specific HG for the entire groundfish fishery south of 40°10′ N lat. set equal to the species' contribution to the 40-10-adjusted ACL. Harvest of blackgill rockfish in all groundfish fisheries south of 40°10′ N lat. counts against this HG of 159 mt.
ˢˢ Other Flatfish. The Other Flatfish complex is comprised of flatfish species managed in the PCGFMP that are not managed with stock-specific OFLs/ABCs/ACLs. Most of the species in the Other Flatfish complex are unassessed and include: Butter sole, curlfin sole, flathead sole, Pacific sanddab, rock sole, sand sole, and rex sole. 249.5 mt is deducted from the ACL to accommodate the Tribal fishery (60 mt), the incidental open access fishery (161.6 mt), EFP fishing (0.1 mt), and research catch (27.8 mt), resulting in a fishery HG of 6,249 mt.
ᵗᵗ Other Fish. The Other Fish complex is comprised of kelp greenling off California and leopard shark coastwide. 8.9 mt is deducted from the ACL to accommodate the incidental open access fishery (8.8 mt) and research catch (0.1 mt), resulting in a fishery HG of 230 mt.

3. Revise Tables 2 (North) and 2 (South) to part 660, subpart E, to read as follows:

BILLING CODE 3510-22-P

4. Revise Tables 3 (North) and 3 (South) to part 660, subpart F, to read as follows:

5. In § 660.360, paragraphs (c)(3)(ii)(B) and (c)(3)(iii)(B)(2) are revised to read as follows:

§ 660.360 Recreational fishery—management measures.

* * * * *

(c) * * *

(3) * * *

(ii) * * *

(B) Bag limits, hook limits. In times and areas when the recreational season for the RCG Complex is open, there is a limit of 2 hooks and 1 line when fishing for the RCG complex and lingcod. The bag limit is 10 RCG Complex fish per day coastwide. Retention of yelloweye rockfish, bronzespotted rockfish, and cowcod is prohibited. Within the 10 RCG Complex fish per day limit, no more than 4 may be black rockfish, no more than 3 may be cabezon, and no more than 3 may be canary rockfish. Multi-day limits are authorized by a valid permit issued by California and must not exceed the daily limit multiplied by the number of days in the fishing trip.

* * * * *

(iii) * * *

(B) * * *

(2) The bag limit between 40°10′ N lat. and the U.S. border with Mexico (Mendocino Management Area, San Francisco Management Area, Central Management Area, and Southern Management Area) is 2 lingcod per day.

* * * * *

[FR Doc. 2019-11610 Filed 6-3-19; 8:45 am]

BILLING CODE 3510-22-C